SOCIAL SECURITY ADMINISTRATION

[Docket No. SSA-2010-0046]

Employment Network Report Card

AGENCY: Social Security Administration (SSA).

ACTION: Notice of Webinar and National Teleconference Call listening sessions—announcing two opportunities for SSA to hear public comments on Employment Network quality assurance, including a ticket consumer Employment Network Report Card.

SUMMARY: We are soliciting the views of the public, beneficiaries, advocates, Employment Networks (EN), and other professionals on a key part of our quality assurance and performance measurement system for the Ticket to Work (TTW) program. An EN is a private or public entity that provides employment support and/or vocational rehabilitation services to Social Security Disability Insurance (SSDI) and Supplemental Security Income (SSI) disabled beneficiaries who choose to participate in the TTW program.

We are seeking to expand and improve the mechanism used to monitor and evaluate EN performance under the TTW program. We plan to accomplish this goal by combining a user-friendly EN Report Card, which contains customer satisfaction feedback, with the current administrative data that EN's submit annually. The EN Report Card will be useful to beneficiaries in making informed choices regarding their selection of ENs under the TTW program. We will use the findings to inform ENs about the service expectations of TTW beneficiaries, the level of satisfaction of beneficiaries who have assigned tickets to the EN, and the ways that ENs may improve their performance under the program.

DATES: There will be two listening sessions—a Webinar and a National Teleconference Call in September 2010. On Monday, September 27, 2010, from 1 p.m. to 2:30 p.m., we will invite Employment Networks, advocates, and other interested TTW program partners to participate in a Webinar. On Tuesday, September 28, 2010, from 1 p.m. to 2:30 p.m., we will invite our beneficiaries, the public, and those who cannot make the first date to participate in the National Teleconference Call.

FOR FURTHER INFORMATION CONTACT: Bashiru Kamara, Office of Employment Support Programs, Social Security Administration, 6401 Security Boulevard, Baltimore, MD 21235-6401, 410-965-9128, for information about this notice. For information on eligibility or filing for benefits, call our national toll-free number, 1-800-772-1213 or TTY 1-800-325-0778, or visit our Internet site, Social Security Online, at http://www.socialsecurity.gov.

SUPPLEMENTARY INFORMATION: The purpose of the Webinar and National Teleconference Call is to provide a forum for us to hear the public's perspective on our planned means of monitoring and evaluating EN performance under the TTW program, including customer satisfaction with ENs. Since the publication of the revised TTW program regulations in July 2008, we have seen significant increases in the number of ENs who have Tickets assigned and are receiving payment for helping beneficiaries go to work. We have increased outreach efforts to disability beneficiaries in the TTW program. More beneficiaries are participating in the TTW program and successfully progressing in their employment goals.

On an annual basis, one of the Ticket Program Managers, MAXIMUS, is responsible for collecting from ENs administrative data on each EN's performance, using a format called the Annual Performance and Outcome Report (APOR). This report is currently the primary EN evaluation tool. To expand on this effort, we will be conducting annual customer satisfaction surveys regarding the performance of ENs. The mechanism we will use to report the combined results of the customer satisfaction surveys and the APOR data is called the EN Report Card. In 2008, we tested the EN Report Card in New York with two focus groups composed of disability beneficiaries and their representatives. We then piloted it in customer satisfaction surveys with the clients of two ENs last year. We will be rolling out the EN Report Card in California first and then nationally.

We will include the results of the EN Report Card on the Beneficiary Access and Support Services Web site that will be a feature of the new Program Manager contract. The Web site will also include a monitored user comments section where beneficiaries will be able to post comments about their experiences with ENs. We also will make the results of the Report Card available to the ENs.

We invite participation in the Webinar and National Teleconference Call from persons who have an interest in the rules we use to administer the TTW program, applicants and beneficiaries, members of the public, advocates, and organizations that represent parties interested in the TTW program.

This is not a request for written comments; comments will be accepted as part of the Webinar and National Teleconference Call. We will not respond directly to comments you send in response to this Notice. After we have considered all comments and suggestions made during the Webinar and National Teleconference Call, as well as what we have learned from our program experience administering the TTW program, we will determine whether and how we should adjust the EN Report Card.

Dated: September 3, 2010.
Michael J. Astrue,
Commissioner of Social Security.

[FR Doc. 2010-22611 Filed 9-9-10; 8:45 am]

BILLING CODE 4191-02-P